DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on December 4, 2003, by a group of crawfish producers in Louisiana.

SUPPLEMENTARY INFORMATION: Upon investigation, the Administrator determined that imports of crawfish did not increase during the January-December 2002 marketing year, a condition required for certifying a petition for TAA.

FOR FURTHER INFORMATION CONTACT: Jean-Louis Pajot, Coordinator, Trade Adjustment Assistance for Farmers, FAS, USDA, (202) 720-2916, email: trade.assistance@fas.usda.gov.

Dated: December 31, 2003.
A. Ellen Terpstra,
Administrator, Foreign Agricultural Service.

[FR Doc. 04-847 Filed 1-14-04; 8:45 am]

BILLING CODE 3410-10-M